ENVIRONMENTAL PROTECTION AGENCY

40 CFR Part 60

[EPA-HQ-OAR-2016-0382; FRL-9955-21-OAR]

RIN 2060-AT15

Revisions to Procedure 2—Quality Assurance Requirements for Particulate Matter Continuous Emission Monitoring Systems at Stationary Sources

AGENCY: Environmental Protection Agency (EPA).

ACTION: Proposed rule.

SUMMARY: The Environmental Protection Agency (EPA) is proposing revisions to a procedure in the New Source Performance Standards (NSPS). The procedure provides the ongoing quality assurance/quality control (QA/QC) procedures for assessing the acceptability of particulate matter (PM) continuous emissions monitoring systems (CEMS). The procedure explains the criteria for passing an annual response correlation audit (RCA) and the criteria for passing an annual relative response audit (RRA). The procedure currently contains a requirement that the annual QA/QC test results for affected facilities must fall within the same response range as was used to develop the existing PM CEMS correlation curve. As a result, some facilities are unable to meet the criteria for passing their annual QA/QC test simply because their emissions are now lower than the range previously set during correlation testing. We are proposing to modify the procedure to allow facilities to extend their PM CEMS correlation regression line to the lowest PM CEMS response obtained during the RCA or RRA, when these PM CEMS responses are less than the lowest response used to develop the existing correlation curve. We also propose to correct a typographical error in the procedure.

DATES: Written comments must be received by December 21, 2016.

Public Hearing. If anyone contacts the EPA by December 1, 2016 requesting to speak at a public hearing on this action, the EPA will consider holding a public hearing on December 21, 2016 at the EPA facility in Research Triangle Park. Please check the EPA's Web page at https://www3.epa.gov/ttn/emc/proposed.html on December 12, 2016 for the announcement of whether a hearing will be held. To request a public hearing and present oral testimony at the hearing, please contact on or before December 1, 2016, the person listed in the FOR FURTHER INFORMATION CONTACT section of this document. If a hearing is held, the hearing schedule, including the list of speakers, will be posted on the EPA's Web page at https://www3.epa.gov/ttn/emc/proposed.html.

ADDRESSES: Submit your comments, identified by Docket ID No. EPA-HQ-OAR-2016-0382, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

FOR FURTHER INFORMATION CONTACT: Ms. Kimberly Garnett, U.S. EPA, Office of Air Quality Planning and Standards, Air Quality Assessment Division, Measurement Technology Group (E143-02), Research Triangle Park, NC 27711; telephone number: (919) 541-1158; fax number: (919) 541- 0516; email address: garnett.kim@epa.gov.

SUPPLEMENTARY INFORMATION: The Environmental Protection Agency (EPA) is proposing revisions to a procedure in the New Source Performance Standards (NSPS). We also propose to correct a typographical error in the introduction to Paragraph (6) of section 10.4 of Procedure 2. Without this revision, paragraph (6)(iii) would remain unused in Procedure 2. This typographical correction is necessary to fulfill the intent of Procedure 2, section 10.4(6), when promulgated. See 69 FR 1786.

I. Why is the EPA issuing this proposed rule?

The EPA proposes a revision to Procedure 2, sections 10.4(5)and (6), to allow facilities that have reduced their emissions since completing their PM CEMS correlation testing to extend their correlation regression line to the point corresponding to the lowest PM CEMS response obtained during the RCA or RRA. This extended correlation regression line will be used to determine if results of this RCA or RRA meet the criteria specified in Section 10.4, paragraphs (5) and (6) of Procedure 2, respectively. This change will ensure that facilities that have reduced their emissions since completing their correlation testing will no longer be penalized because their lower emissions fall outside their initial response range. This action also proposes to correct a typographical error in the introduction to section 10.4, paragraph (6) of Procedure 2. Paragraph (6), which originally read, “To pass an RRA, you must meet the criteria specified in paragraphs (6)(i) and (ii) . . .”, is being corrected to read: “To pass an RRA, you must meet the criteria specified in paragraphs (6)(i) through (iii) . . .” Without this revision, paragraph (6)(iii) would remain unused in Procedure 2. This typographical correction is necessary to fulfill the intent of Procedure 2, section 10.4(6), when promulgated in 69 FR 1786. We have published a direct final rule approving the revisions to Procedure 2 in the “Rules and Regulations” section of this Federal Register publication because we view this as a non-controversial action and anticipate no adverse comment. We have explained our reasons for this action in the preamble of the direct final rule.

If we receive no adverse comment, we will not take further action on this proposed rule. If the EPA receives adverse comment, we will publish a timely withdrawal in the Federal Register informing the public that the direct final rule will not take effect. In that case, we would address all public comments in any subsequent final rule based on this proposed rule.

We do not intend to institute a second comment period on this action. Any parties interested in commenting must do so at this time. For further information about commenting on this rule, please see the information provided in the ADDRESSES section of this document.

The regulatory text for the proposal is identical to that for the direct final rule published in the “Rules and Regulations” section of this Federal Register publication. For further supplementary information, the detailed rationale for the proposal and the regulatory revisions, see the direct final rule published in a separate part of this Federal Register publication.

II. Does this action apply to me?

The entities potentially affected by this rule include any facility that is required to install and operate a PM CEMS under any provision of title 40 of the CFR. If you have any questions regarding the applicability of this action to a particular entity, consult the person listed in the FOR FURTHER INFORMATION CONTACT section of this document.

List of Subjects in 40 CFR Part 60

Environmental protection, Administrative practice and procedure, Air pollution control, Continuous emission monitoring systems, Particulate matter, Procedures.

Dated: November 8, 2016.
Gina McCarthy,
Administrator.

[FR Doc. 2016-27847 Filed 11-18-16; 8:45 am]

BILLING CODE 6560-50-P